DEPARTMENT OF COMMERCE

National Oceanic and Atmospheric Administration

Notice of Availability of Draft Environmental Assessment for Analysis of Remediation Alternatives for the Pacific Crossing—1 North and East Submarine Fiber Optic Cables in the Olympic Coast National Marine Sanctuary

AGENCY: National Marine Sanctuary Program (NMSP), National Ocean Service (NOS), National Oceanic and Atmospheric Administration (NOAA), Department of Commerce.

ACTION: Notice.

SUMMARY: The draft environmental assessment (EA) evaluates the effects of submarine fiber optic cables owned by Pacific Crossing, Ltd. in the Olympic Coast National Marine Sanctuary (OCNMS). The EA evaluates eight alternative actions NOAA may take to address impacts associated with the current disposition of the cables. NOAA is soliciting comments and recommendations from the public regarding remediation alternatives and their impacts. The U.S. Army Corps of Engineers (ACOE) is a cooperating agency in this EA.

DATES: Comments must be received on or before October 24, 2005.

ADDRESSES: Submit written comments on the draft environmental assessment to Carol Bernthal, OCNMS Superintendent (PC-1 Cables Remediation Review), 115 E. Railroad Ave. Suite 301, Port Angeles, Washington 98362 or via e-mail to carol.bernthal@noaa.gov. Copies of the draft environmental assessment document can be downloaded from the NMSP Web site at http://sanctuaries.noaa.gov/library/library.html.

SUPPLEMENTARY INFORMATION: In November 1999, NOAA issued an authorization/special use permit to Pacific Crossing, Ltd. for installation by its contractor, Tyco Submarine Systems, Ltd., of two fiber optic cables through OCNMS. NOAA is considering amending the permit or issuing a new permit to address the condition of the cables. NOAA's goal is to fully achieve the objectives of the terms and conditions of the permit, which would prevent chronic damage to resources, substantially reduce risks to resources and fishers, and restore access to Native Americans to their treaty-reserved fishing grounds. NOAA is evaluating various remedial options to determine which option or combination of options would be most suitable to achieve this goal. The options range from no action to complete removal and reburial of the cables. ACOE, pursuant to Section 10 of the Rivers and Harbors Act of 1899, has permitting authority for obstructions to navigation, and pursuant to Section 404 of the Clean Water Act has permitting authority for the discharge of dredge or fill material in waters of the United States. As a cooperating agency, ACOE is considering modifying the existing Section 10/404 permit it issued for the Pacific Crossing cables to allow the proposed remediation in OCNMS to be performed.

Dated: October 5, 2005.
Charles W. Challstrom,
Acting Assistant Administrator, Ocean Services and Coastal Zone Management, National Oceanic and Atmospheric Administration.

[FR Doc. 05-20363 Filed 10-7-05; 8:45 am]

BILLING CODE 3510-NK-P